DEPARTMENT OF ENERGY

Federal Energy Regulatory Commission

[Project No. 184-065 California]

El Dorado Irrigation District, Notice of Public Meeting

March 16, 2001.

The Federal Energy Regulatory Commission (Commission) is reviewing the application for a new license for the El Dorado Project (FERC No. 184), which was filed on February 22, 2000. The El Dorado Project, licensed to the El Dorado Irrigation District (EID), is located on the South Fork American River, in El Dorado, Alpine, and Amador counties, California. The project occupies lands of the Eldorado National Forest.

The EID has requested that the Commission provide facilitation services to assist the parties in arriving at a settlement of all issues relevant to this proceeding. The purpose of the meeting is to discuss alternatives for processing the application for relicensing of the El Dorado Project, including whether a consensus exists for pursuing settlement options. We invite the participation of all interested governmental agencies, non-governmental organizations, and the general public in this meeting.

The meeting will be held on Tuesday, April 3, from 9:00 a.m. to 4:00 p.m., at the Sacramento County Superior Court Annex, Second Floor, 721 Ninth Street, Sacramento, California.

For further information, please contact Elizabeth Molloy at (202) 208-0771 or John Mudre at (202) 219-1208.

Linwood A. Watson, Jr.,
Acting Secretary.

[FR Doc. 01-7122 Filed 3-21-01; 8:45 am]

BILLING CODE 6717-01-M